DEPARTMENT OF AGRICULTURE

Foreign Agricultural Service

Trade Adjustment Assistance for Farmers

AGENCY: Foreign Agricultural Service, USDA.

ACTION: Notice.

The Administrator, Foreign Agricultural Service (FAS), approved a petition for trade adjustment assistance (TAA) that was filed on December 28, 2005, by a group of snapdragon producers in Indiana. The certification date is February 10, 2006. Beginning on February 21, 2006, Indiana snapdragon producers will be eligible to apply for fiscal year 2006 benefits during an application period ending May 22, 2006.

SUPPLEMENTARY INFORMATION: Upon investigation, the Administrator determined that increased imports of snapdragons contributed importantly to a decline in producer prices of snapdragons in Indiana by 37 percent during January through December 2004, when compared with the previous 5-year average.

Eligible producers must apply to the Farm Service Agency for benefits. After submitting completed applications, producers shall receive technical assistance provided by the Extension Service at no cost and may receive an adjustment assistance payment, if certain program criteria are satisfied. Applicants must obtain the technical assistance from the Extension Service by September 29, 2006, in order to be eligible for financial payments.

Producers of raw agricultural commodities wishing to learn more about TAA and how they may apply should contact the Department of Agriculture at the addresses provided below for General Information.

Producers Certified as Eligible for TAA, Contact: Farm Service Agency service centers in Indiana.

For General Information About TAA, Contact: Jean-Louis Pajot, Coordinator, Trade Adjustment Assistance for Farmers, FAS, USDA, (202) 720-2916, e-mail: trade.adjustment@fas.usda.gov.

Dated: February 8, 2006.
A. Ellen Terpstra,
Administrator, Foreign Agricultural Service.

[FR Doc. E6-2399 Filed 2-17-06; 8:45 am]

BILLING CODE 3410-10-P